COMMISSION ON CIVIL RIGHTS

Sunshine Act Notice

AGENCY: United States Commission on Civil Rights.

ACTION: Notice of meeting.

DATE AND TIME: Friday, February 26, 2010; 11 a.m. EST.

PLACE: Via Teleconference, Public Dial in: 1-800-597-7623, Conference ID # 57721922.

MEETING OPEN TO PUBLIC:

Meeting Agenda

This meeting is open to the public, except where noted otherwise.

I. Approval of Agenda

II. Program Planning

• Approval of Findings and Recommendations for The Impact of Illegal Immigration on the Wages and Employment Opportunities of Black Workers Report

• Update on Status of 2010 Enforcement Report—Some of the discussion of this agenda item may be held in closed session.

• Update on Status of Title IX Project—Some of the discussion of this agenda item may be held in closed session.

III. State Advisory Committee Issues

• Pennsylvania SAC

• Nevada SAC

• Missouri SAC

IV. Adjourn

Contact Person for Further Information: Lenore Ostrowsky, Acting Chief, Public Affairs Unit, (202) 376-8591. TDD: (202) 376-8116.

Persons with a disability requiring special services, such as an interpreter for the hearing impaired, should contact Pamela Dunston at least seven days prior to the meeting at 202-376-8105. TDD: (202) 376-8116.

Dated: February 16, 2010.
David Blackwood,
General Counsel.

[FR Doc. 2010-3302 Filed 2-16-10; 4:15 pm]

BILLING CODE 6335-01-P